DEPARTMENT OF ENERGY

Federal Energy Regulatory Commission

[Project No. 10102-010]

Franklin Springer, Watershed Ranch LLC; Notice of Application for Transfer of License and Soliciting Comments, Motions To Intervene, and Protests

On February 20, 2018 and supplemented on April 16, 2018, Franklin Springer (transferor) and Watershed Ranch LLC (transferee) filed an application for the transfer of license of the Springer Hydro No. 1 Project No. 10102. The project is located on the McFadden and Morrison Creeks in Chaffee County, Colorado. The project does not occupy Federal lands.

The applicants seek Commission approval to transfer the license for the Springer Hydro No. 1 Project from the transferor to the transferee.

Applicants Contact: For transferor: Mr. Franklin Springer, 18840 Mountain View Drive, Buena Vista, CO 81211, Phone 719-395-2364.

For transferee: Ms. Kathryn L. Welter, Watershed Ranch LLC, 18840 Mountain View Drive, Buena Vista, CO 81211, Phone 719-395-9244, Email: welterkaty@gmail.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10102-010.

Dated: May 8, 2018.
Kimberly D. Bose,
Secretary.

[FR Doc. 2018-10197 Filed 5-11-18; 8:45 am]

BILLING CODE 6717-01-P